COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 7/11/2011.

ADDRESSES: Committee for Purchase From People Who Are Blind or Severely Disabled, Jefferson Plaza 2, Suite 10800, 1421 Jefferson Davis Highway, Arlington, Virginia, 22202-3259.

FOR FURTHER INFORMATION CONTACT: Patricia Briscoe, Telephone: (703) 603-7740, Fax: (703) 603-0655, or email CMTEFedReg@AbilityOne.gov.

SUPPLEMENTARY INFORMATION:

Additions

On 3/18/2011 (76 FR 14943), 4/1/2011 (76 FR 18188-18189), and 4/15/2011 (76 FR 21336-21337), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: MR 899—Slicer, Pineapple, Stainless;

NSN: MR 1136—Mug, Seasonal;

NSN: MR 1135—Set, Spreader, 4Pc;

NPA: Industries for the Blind, Inc., West Allis, WI.

Contracting Activity: Military Resale—Defense Commissary Agency, Fort Lee, VA.

Coverage: C-List for the requirements of military commissaries and exchanges as aggregated by the Defense Commissary Agency.

NSN: 6150-01-040-6848—Kit, Wiring, ATON Buoy.

NPA: Greenville Rehabilitation Center, Greenville, SC.

Contracting Activity: Department of Homeland Security, U.S. Coast Guard, SFLC Procurement Branch 3, Baltimore, MD.

Coverage: C-List for 100% of the requirement of the U.S. Coast Guard, as aggregated by the U.S. Coast Guard.

NSN: 8415-01-588-2047—Neckdam, Chemical, Protective, JPACE, CPC, JC3, Green.

NPA: Peckham Vocational Industries, Inc., Lansing, MI.

Contracting Activity: Department of the Army Research, Development, & Engineering Command, Natick, MA.

Coverage: C-List for 100% of the requirement of the U.S. Army, as aggregated by the Department of the Army Research, Development, & Engineering Command, Natick, MA.

Self-stick, Repositionable Flags:

NSN: 7510-01-315-2019—1x1.75, Red;

NSN: 7510-01-315-2020—1x1.75, Green;

NSN: 7510-01-315-2021—1x1.75, Blue;

NSN: 7510-01-315-2022—1x1.75, White;

NSN: 7510-01-315-2023—1x1.75, Orange;

NSN: 7510-01-315-2024—1x1.75, Yellow;

NSN: 7510-01-315-8654—1x1.75, Purple;

NSN: 7510-01-399-1152—1x1.75, Bright Green;

NSN: 7510-01-399-1153—1x1.75, Bright Pink.

NPA: Association for the Blind and Visually Impaired—Goodwill Industries of Greater Rochester, Rochester, NY.

Contracting Activity: General Services Administration, New York, NY.

Coverage: A-List for the Total Government Requirement as aggregated by the General Services Administration.

Services:

Service Type/Location: Custodial Service, Humphreys Engineer Center, Building #2596, 7701 Telegraph Road, Alexandria, VA.

NPA: MVLE, Inc., Springfield, VA.

Contracting Activity: Dept. of the Army, XU W4LD USA HECSA, Alexandria, VA.

Service Type/Location: Janitorial Service, Schofield Barracks Combat Arms Training and Maintenance Facility, Building SB 2225, Schofield Barracks, HI.

NPA: Opportunities and Resources, Inc., Wahiawa, HI.

Contracting Activity: Dept. of the Navy, NAVFAC Engineering Command Hawaii, Pearl Harbor, HI.

Service Type/Location: Facility Maintenance, U.S. Military Academy Preparatory School, West Point, NY.

NPA: New Dynamics Corporation, Middletown. NY.

Contracting Activity: Dept. of the Army, XR W6BA ACA West Point, West Point, NY.

Patricia Briscoe,
Deputy Director, Business Operations (Pricing and Information Management).

[FR Doc. 2011-14420 Filed 6-9-11; 8:45 am]

BILLING CODE 6353-01-P